SURFACE TRANSPORTATION BOARD

[Docket No. FD 36165]

Toledo, Peoria & Western Railway Corp.—Trackage Rights Renewal Exemption—Tazewell & Peoria Railroad, Inc.

The Tazewell & Peoria Railroad, Inc. (TZPR), has agreed to renew overhead trackage rights to Toledo, Peoria & Western Railway Corp. (TPW). The trackage rights extend between TPW milepost 109.4 at East Peoria, Ill., and TPW milepost 113.9 at Peoria, Ill. (the Line), a distance of approximately 4.7 miles, including overhead trackage rights to handle intermodal traffic from the intermediate point of the connection between TZPR and BNSF Railway Company (BNSF) near Darst Street to TPW milepost 109.4 in East Peoria.

TPW states that the purpose of the transaction is to renew trackage rights originally granted to TPW by Peoria & Pekin Union Railway Company (PPU) in 1995. Toledo, Peoria & W. Ry.—Trackage Rights Exemption—Peoria & Pekin Union Ry., FD 32654 (ICC served Feb. 6, 1995). In 2001, the trackage rights were amended to include an intermediate connection with BNSF for handling intermodal traffic. Toledo, Peoria & W. Ry.—Trackage Rights Exemption—Peoria & Pekin Union Ry., FD 34009 (STB served Feb. 23, 2001). In 2004, the Board authorized TZPR to lease the Line, and other lines, from PPU. Tazewell & Peoria RR—Lease & Operation Exemption—Peoria & Pekin Union Ry., FD 34544 (STB served Sept. 28, 2004). TPW states that on August 1, 2006, TZPR and TPW entered into an amended and restated trackage rights agreement (2006 Restated Agreement) that did not change the scope of the trackage rights, but did, among other things, extend the term of the trackage rights to December 31, 2016.¹

¹ TWP did not seek or receive Board authorization for the transaction encompassed in the 2006 Restated Agreement. This notice of exemption is published nevertheless because the same class exemption applies to trackage rights acquisitions and renewals. See 49 CFR 1180.2(d)(7).

The earliest this transaction may be consummated is March 29, 2018, the effective date of the exemption (30 days after the verified notice of exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by March 22, 2018 (at least seven days before the exemption becomes effective).

An original and 10 copies of all pleadings, referring to Docket No. 36165, must be filed with the Surface Transportation Board, 395 E Street, SW, Washington, DC 20423-0001. In addition, a copy of each pleading must be served on Erik M. Hocky, Clark Hill, PLC, One Commerce Square, 2005 Market Street, Suite 1000, Philadelphia, PA 19103.

Board decisions and notices are available on our website at “WWW.STB.GOV.”

Decided: March 12, 2018.
By the Board, Scott M. Zimmerman, Acting Director, Office of Proceedings.
Jeffrey Herzig,
Clearance Clerk.

[FR Doc. 2018-05289 Filed 3-14-18; 8:45 am]

BILLING CODE 4915-01-P